DEPARTMENT OF DEFENSE

Department of the Army

Record of Decision (ROD) for the Final Environmental Impact Statement (FEIS) for the Renewal of the Special Use Permit (SUP) for Military Activities on the De Soto National Forest and Implementation of Installation Mission Support Activities at Camp Shelby, MI

AGENCY: National Guard Bureau (NGB), Department of the Army, DoD.

ACTION: Notice of Availability.

SUMMARY: The NGB has decided to proceed with the proposed action to renew the SUP for a 20-year period and construct, operate, and maintain the projects listed in the final EIS including the reconfiguration of the Combined Arms Area.

ADDRESSES: To request a copy of the ROD please contact Mr. Tim Powell, Public Affairs Officer, Joint Forces Headquarters, Mississippi National Guard, P.O. Box 5027, Jackson, Mississippi, 39296-5027.

FOR FURTHER INFORMATION CONTACT: Mr. Tim Powell at (601) 313-6349. The alternate point of contact for this action is Major Robert A. Lemire, at (601) 313-6228.

SUPPLEMENTARY INFORMATION: Consistent with the decision to renew the SUP and proceed with the proposed action and analyses described in the FEIS, the NGB shall: (1) Commit personnel and resources to implement the “Preferred Alternative,” (2) commit personnel and resources to support operations and training at Camp Shelby, (3) maintain operations, training and facilities at Camp Shelby, and (4) implement and program funds for the appropriate monitoring and mitigation measures associated with the approved activities as discussed in the FEIS.

The development and implementation of the SUP Operating Plan; identification and implementation of appropriate best management practices and mitigation measures; and continued monitoring of key environmental resources will be accomplished.

The present monitoring and mitigation procedures that are employed at Camp Shelby and will continue to be employed to address potential adverse effects from construction, operation, and maintenance of the proposed new projects include a wide range of environmental resource areas, but primarily focus on protection and conservation of proposed, endangered, threatened, and sensitive (PETS) species (particularly the gopher tortoise due to its prevalence on Camp Shelby), protection of soil, minimization of erosion/sedimentation, and protection of wetlands. For this SUP renewal proposal, the Mississippi National Guard (MSNG) has revised and updated the mitigation and monitoring program set forth in the 1994 SUP EIS and ROD. The MSNG's commitment to monitor is intended to ensure that the impacts from military training are periodically assessed and that adverse impacts are addressed/mitigated once identified. Since 1994, the MSNG has conducted this monitoring in cooperation with the Forest Service on all lands within the boundaries of Camp Shelby.

As part of the development of the proposed renewed SUP, the continuation of this monitoring is required to ensure that the lands used by Camp Shelby meet the federal requirement for multiple use and that the lands are managed to ensure that they are protected from irreversible harm for future generations. Monitoring will be conducted on 13 program areas: noise, PETS species, biodiversity, wildlife, streams, wetlands, soil loss, timber, vegetation, invasive species, wildfire, road closure for military training, and cultural resources. Information included for these monitoring program areas include delineation of the data requirements, sample information, frequency of collection and reporting, responsible party, basis for action, and actions required if the impact threshold occurs.

The ROD can be found at: http://www.ngms.state.ms.us/env/Natural%20Resources/nat_resources_06. htm.

Dated: February 28, 2008.
Addison D. Davis, IV,
Deputy Assistant Secretary of the Army (Environment, Safety, and Occupational Health).

[FR Doc. E8-4535 Filed 3-10-08; 8:45 am]

BILLING CODE 3710-08-M